DEPARTMENT OF HOUSING AND URBAN DEVELOPMENT

[Docket No. FR-7096-N-02; OMB Control No.: 2501-0043]

60-Day Notice of Proposed Information Collection: Federal Labor Standards Monitoring Review Guides

AGENCY: Office of Field Policy and Management, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 4, 2025.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Anna Guido, Clearance Officer, REE, Department of Housing and Urban Development, 451 7th Street SW, Room 8210, Washington, DC 20410-5000.

FOR FURTHER INFORMATION CONTACT: Nathan Roush, Program Analyst, FPM, Department of Housing and Urban Development, 77 Forsyth Street SW, Atlanta, GA 30303; email Nathan Roush at Nathan.A.Roush@hud.gov, telephone 678-732-2250. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A.

A. Overview of Information Collection

Title of Information Collection: Federal Labor Standards Monitoring Review Guides.

OMB Approval Number: 2501-0043.

Type of Request: Extension of a currently approved collection.

Form Number: HUD-4741, -4742, -4743.

Description of the need for the information and proposed use: This request is for an extension of a currently approved collection consisting of monitoring review guides for federal labor standards. All Federal agencies administrating programs subject to Davis-Bacon wage provisions are required to enforce Federal wage and reporting provisions in an accordance with the U.S. Department of Labor (DOL) regulations at 29 CFR 5.6(a)(1), (a)(2), and (a)(3).

HUD and state, local, and tribal agencies administering HUD-assisted programs must enforce Federal wage and reporting requirements on covered HUD-assisted construction and maintenance work. Enforcement activities include conducting monitoring reviews of local contracting agencies (LCAs), defined as Public Housing Agencies and State, Local, and Tribal Housing Agencies. These monitoring reviews are to ensure that LCAs are compliant with the Davis-Bacon Act and HUD Davis-Bacon Related Acts.

This extension of a currently approved collection consists of the following forms:

• HUD-4741 Federal Labor Standards Agency On-Site Monitoring Review Guide

• HUD-4742 Federal Labor Standards Agency Remote Monitoring Review Guide

• HUD-4743 Federal Labor Standards State CDBG and HOME programs Monitoring Review Guide

Respondents (i.e., affected public): Local Contracting Agencies (LCAs).

Estimated Number of Respondents: See chart.

Estimated Number of Responses: See chart.

Frequency of Response: See chart.

Average Hours per Response: See chart.

Total Estimated Burdens: See chart.

Information collection | Number of respondents | Frequency of response | Responses per annum | Burden hours per response | Annual burden hours | Hourly cost per response | Total cost
HUD-4741 On-Site Monitoring Review Guide | 66.00 | 1.00 | 66.00 | 0.50 | 33.00 | $48.69 | $1,606.77
HUD-4742 Remote Monitoring Review Guide | 66.00 | 1.00 | 66.00 | 8.00 | 528.00 | 48.69 | 25,708.32
HUD-4743 State CDBG/HOME Monitoring Review Guide | 66.00 | 1.00 | 66.00 | 0.50 | 33.00 | 48.69 | 1,606.77
Total | 198.00 |  | 198.00 |  | 594.00 |  | 28,921.86

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Bruce L. Ladd,
Acting Director, Office of Field Policy and Management.

[FR Doc. 2025-10002 Filed 6-2-25; 8:45 am]

BILLING CODE 4210-67-P